SURFACE TRANSPORTATION BOARD

[Docket No. FD 36008]

North Carolina & Atlantic Railroad Co., Inc.—Lease and Operation Exemption—North Carolina Department of Transportation

North Carolina & Atlantic Railroad Co., Inc. (NCAR), a noncarrier, has filed a verified notice of exemption under 49 CFR 1150.31 to lease from the North Carolina Department of Transportation (NCDOT), and to operate, approximately 5.7 miles of rail line, referred to as the Global Transpark rail corridor, between milepost GTP-0.0 (connection to the North Carolina Railroad Company track) and milepost GTP-5.7 (at the NC Global Transpark) at Kinston, in Lenoir County, N.C., pursuant to an executed lease and operating agreement.

This transaction is related to a concurrently filed verified notice of exemption in Gulf & Ohio Railways, Inc.—Continuance in Control Exemption—North Carolina & Atlantic Railroad Co., Inc., Docket No. FD 36009, in which Gulf & Ohio Railways, Inc., H. Peter Claussen and Linda C. Claussen seek Board approval to continue in control of NCAR under 49 CFR 1180.2(d)(2), upon NCAR's becoming a Class III rail carrier.

NCAR certifies that the projected annual revenues as a result of this transaction will not exceed those that would qualify it as a Class II rail carrier and states that its projected annual revenue is expected not to exceed $5 million. NCAR states that the agreement regarding the subject line does not involve an interchange commitment.

The transaction may be consummated on April 8, 2016, the effective date of the exemption (30 days after the verified notice of exemption was filed). If the verified notice contains false or misleading information, the exemption is void ab initio. Petitions to revoke the exemption under 49 U.S.C. 10502(d) may be filed at any time. The filing of a petition to revoke will not automatically stay the effectiveness of the exemption. Petitions to stay must be filed by April 1, 2016 (at least seven days prior to the date the exemption becomes effective).

An original and 10 copies of all pleadings, referring to Docket No. FD 36008 must be filed with the Surface Transportation Board, 395 E Street SW., Washington, DC 20423-0001. In addition, a copy of each pleading must be served on applicant's representative, Rose-Michele Nardi, Transport Counsel PC, 1701 Pennsylvania Ave. NW., Suite 300, Washington, DC 20006.

According to NCAR, this action is categorically excluded from environmental review under 49 CFR 1105.6(c).

Board decisions and notices are available on our Web site at “WWW.STB.DOT.GOV.”

Decided: March 21, 2016.
By the Board, Joseph H. Dettmar, Acting Director, Office of Proceedings.
Kenyatta Clay,
Clearance Clerk.

[FR Doc. 2016-06784 Filed 3-24-16; 8:45 am]

BILLING CODE 4915-01-P